DEPARTMENT OF HEALTH AND HUMAN SERVICES

Centers for Medicare & Medicaid Services

[CMS-2195-N]

RIN 0938-ZA47

Medicaid Program; Demonstration To Improve the Direct Service Community Workforce

ACTION: Notice.

Part 1. Overview Information.

Funding Opportunity Title: Medicaid Program; Demonstration To Improve the Direct Service Community Workforce.

Catalog of Federal Domestic Assistance (CFDA) No: 93.779.

DATES: No new applications will be accepted.

Part 2. Full Text of the Announcement.

I. Funding Opportunity Description

This notice announces the award of approximately $6 million in funding through our “Demonstration to Improve the Direct Service Community Workforce” initiative pursuant to the President's Executive Order 13217 “Community-Based Alternatives for Individuals with Disabilities” and authorized under section 1110 of the Social Security Act. The “Demonstration to Improve the Direct Service Community Workforce” grants are designed to assist States and others develop innovative programs that improve recruitment and retention of direct service workers. The House of Representatives Conference Report (HR Conf. Rpt No. 108-401, at 784 [2003]) that accompanied the Consolidated Appropriations Act, 2004 (Pub. L. 108-199) outlines the scope of this project.

These grants are a part of the President's New Freedom Initiative to eliminate barriers to equality and grant a “New Freedom” to children and adults of all ages who have a disability or long-term illness so that they may live and prosper in their communities. This notice also contains information about the manner in which we will continue the award process that originally started in fiscal year (FY) 2003. We will not accept any new applications for the “Demonstration to Improve the Direct Service Community Workforce” grants in FY 2004.

The purpose of this demonstration program is to develop and implement programs that will increase the pool of direct care service workers, who help support people with disabilities in the community, through recruitment and retention strategies. Examples of potentially fundable demonstration programs might include, but are not limited to wage or time-off incentives, continuing education, outreach to underserved populations, cultural, or logistical barriers.

II. Award Information

On March 20, 2003, we published a notice titled “Emergency Clearance: Public Information Collection Requirements Submitted to the Office of Management and Budget (OMB) and Solicitation of Applications” in the Federal Register (68 FR 13715). The full solicitation is available at http://www.cms.hhs.gov/newfreedom/dswsolicitation.pdf. Under this notice, we invited proposals from States and others, in partnership with their disability and aging communities, to create systems that will improve the recruitment and retention of direct service workers. Grant applications were due August 12, 2003.

The response of States and other eligible entities to this opportunity was extraordinary: we received over 100 applications for these grants. The response revealed a strong interest on the part of States and their citizens to address the need for a stable direct service community workforce. In October 2003, we announced the award of five grants totaling $4,370,000. Each of these grants had a 36-month budget period.

Due to the extraordinary response we received from the “Demonstration to Improve the Direct Service Community Workforce” solicitation in FY 2003, we will not accept any new applications in FY 2004. Instead, we will continue to process the ranked applications submitted in FY 2003, beginning with the highest-ranked applications that were not funded in FY 2003. Each of the FY 2004 grants awarded in this notice has a 36-month budget period.

III. Eligibility Information

1. Eligible Applicants

We have offered FY 2004 funding to those eligible applicants. Eligible applicants are those applicants who (1) submitted an application in FY 2003 and (2) received from us written notification indicating that their application received a score from the review panel in a range that will permit us to make an award in FY 2004.

2. Cost Sharing or Matching

Matching funds of either in-kind or cash contributions totaling 5 percent of the project's total value are required.

IV. Application and Submission Information

1. Address To Request Application Package

No new applications will be accepted. Only eligible applicants will be funded.

2. Content and Form of Application Submission

No new applications will be accepted.

3. Submission Dates and Times

No new applications will be accepted.

4. Funding Restrictions

Proposals that included a health insurance intervention were eligible for funding up to $1,403,000 and proposals that targeted other interventions were eligible for funding up to $680,500.

V. Application Review Information

1. Criteria

Since we received far more applications in FY 2003 than we were able to fund, we are announcing our intention to continue the award process for eligible applicants (see definition of eligible applicants in the eligibility information section of this notice).

2. Review and Selection Process

We have used the review panel scores from FY 2003 to determine the ranking of applications and will attempt to provide funding for applications where funding was previously unavailable. We reserve the right to reallocate those funds to the next highest-ranked eligible applicant(s) if eligible applicants are subsequently determined not to have met all of the requirements as detailed in the award information section of this notice, the terms and conditions of grant awards, or otherwise fail to respond to us. We have determined that we will be able to fund, in FY 2004, five new “Demonstration to Improve the Direct Service Community Workforce” grants.

3. Anticipated Announcement and Award Dates

We anticipate that these grants will be officially awarded on or before September 30, 2004. New grantees may expend grant funds over a 36-month period from the date of the award. New grantees are listed in “Chart—2004 Demonstration to Improve the Direct Service Community Workforce Grant Awards” in section VIII of this notice.

VI. Award Administration Information

1. Award Notices

No new applications will be accepted. Eligible applicants will receive an official Notice of Grant Award (Form CMS 6-U6-PG) along with terms and conditions of the grant award.

2. Administrative and National Policy Requirements

Specific administrative and policy requirements of grantees, including the matching fund requirements, as detailed in the full solicitation, available section II of this notice, will continue to apply to all Eligible Applicants that receive awards in FY 2004.

3. Reporting

Specific reporting requirements of grantees, as detailed in section II of this notice, will continue to apply to all eligible applicants that receive awards in FY 2004.

VII. Agency Contacts

Programmatic questions about the Demonstration to Improve the Direct Service Community Workforce grants may be directed to: Kate King, Centers for Medicare & Medicaid Services, Center for Medicaid and State Operations, DEHPG/DCSI, Mail Stop S2-14-26, 7500 Security Boulevard, Baltimore, MD 21244-1850, 410-786-1283 (voice), 410-786-9004 (fax), or by e-mail at kking@cms.hhs.gov.

Administrative questions about the Demonstration to Improve the Direct Service Community Workforce grants may be directed to: Nettie Faulkner, Centers for Medicare & Medicaid Services, Acquisition and Grants Group, AGG/DRCG, Mail Stop C2-21-15, 7500 Security Boulevard, Baltimore, MD 21244-1850, 410-786-6639 (voice), 410-786-9088 (fax), or by e-mail at nfaulkner@cms.hhs.gov.

VIII. Other Information

Chart—2004 Demonstration to Improve the Direct Service Community Workforce Grant Awards
State or other entity | Grant amount
Arkansas Department of Human Services, Little Rock, Arkansas | $680,000
Bridges, Inc., Gary, Indiana | 1,403,000
Home Care Quality Authority, Olympia, Washington | 1,403,000
Seven Counties Services, Inc., Louisville, Kentucky | 680,000
Virginia Department of Medical Assistance Services, Richmond, Virginia | 1,403,000

IX. Collection of Information Requirements

This notice informs applicants of the “Demonstration to Improve the Direct Service Community” that CMS has awarded 5 grants in FY 2003. Due to the extraordinary response received, CMS will not accept any new applications in FY 2004, but will continue to process the ranked applications submitted in FY 2003, beginning with the highest-ranked applications that were not funded in FY 2003.

This information collection requirement is subject to the PRA; however, it has already been approved under OMB control number 0938-0836 entitled “Real Choice Systems Grants; Nursing Facility Transition/Access Housing Grants; Community Personal Assistance Service and Supports Grants, National Technical Assistance and Learning Collaborative Grants to Support Systems Change for Community Living” with a current expiration date of 1/31/2007.

Dated: March 12, 2004.
Dennis G. Smith,
Acting Administrator, Centers for Medicare & Medicaid Services.

[FR Doc. 04-12172 Filed 5-27-04; 8:45 am]

BILLING CODE 4120-01-P